DEPARTMENT OF TRANSPORTATION

Federal Aviation Administration

RTCA, Special Committee 196; Night Vision Goggle (NVG) Appliances & Equipment

Pursuant to section 10(a)(2) of the Federal Advisory Committee Act (Pub. L. 92-463, 5 U.S.C., Appendix 2), notice is hereby given for Special Committee (SC)-196 meeting to be held February 13-14, 2001, starting at 8:00 a.m. each day. The meeting will be held at Anaheim Marriott, 1700 W. Convention Way, Anaheim, CA 92802.

The agenda will include: (1) Welcome and Introductory Remarks; (2) Agenda Overview; (3) Review/Approval of Previous Meeting Minutes; (4) Action Item Status Review; (5) Overview of SC-196 Working Group (WG) Activities; (6) WG-5, Training Issues—Action Item Status Review; (7) Night Vision Imaging System (NVIS) Lighting and NVG Continued Airworthiness—Minimum Operational Performance Standards (MOPS) Development; (8) Open Issue List Review; (9) Other Business; (10) Establish Agenda for Next Meeting; (11) Date and Location of Next Meeting; (12) Working Group Chairpersons meeting; (13) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on January 18, 2001.
Janice L. Peters,
Designated Official.

[FR Doc. 01-2238 Filed 1-24-01; 8:45 am]

BILLING CODE 4910-13-M